DEPARTMENT OF TRANSPORTATION

Federal Aviation Administration

Public Notice for Intent To Release Airport Property

AGENCY: Federal Aviation Administration (FAA), DOT.

ACTION: Notice of intent to rule on request to release airport property for non-aeronautical use; Lake Louise Airport (Z55), Lake Louise, Alaska.

SUMMARY: The FAA proposes to rule and invites public comment on the interim release of the aeronautical use only provision for land at the Lake Louise Airport, Lake Louise, Alaska.

DATES: Comments must be received on or before June 14, 2019.

ADDRESSES: Documents are available for review by appointment at the FAA Alaskan Region Airports Division, Molly Lamrouex, Compliance Manager, 222 W 7th Avenue, Anchorage, AK. Telephone: (907) 271-5439 and the Alaska Department of Transportation & Public Facilities, 2301 Peger Road, Fairbanks, Alaska. Telephone: (907) 451-5226.

Written comments on the Sponsor's request must be delivered or mailed to: Molly Lamrouex, Compliance Manager, Federal Aviation Administration, Alaskan Region Airports Division, 222 W 7th Avenue, Anchorage, AK 99513, Telephone Number: (907) 271-5439.

FOR FURTHER INFORMATION CONTACT: Molly Lamrouex, Compliance Manager, Federal Aviation Administration, Alaskan Region Airports Division, 222 W 7th Avenue, Anchorage, AK 99513. Telephone Number: (907) 271-5439/FAX Number: (907) 271-2851.

SUPPLEMENTARY INFORMATION: The FAA invites public comment on the request to release the aeronautical use only grant provision for improvements to an existing public boat ramp west of runway 13 operated by the Matanuska-Susitna Borough, under the provisions of 49 U.S.C. 47107(h)(2). The Alaska Department of Transportation and Public Facilities has requested from the FAA that a portion of airport property already in use as a public boat ramp be retroactively released for non-aeronautical use. This release will also accommodate a proposed expansion of the boat ramp public parking area. The Matanuska-Susitna Borough operates the boat ramp as a public service and no payment to the airport is proposed. The FAA has determined that the release of the property will not likely adversely impact future aviation needs at the airport, though the expanded parking area will affect the sponsors ability to seek lower approach minimums. The FAA may approve the request, in whole or in part, no sooner than 30 days after the publication of this notice.

This release is considered to be for the benefit of the community and will not generate revenue.

Issued in Anchorage, Alaska, on May 9, 2019.
Kristi A. Warden,
Director, Alaskan Region Airports Division FAA.

[FR Doc. 2019-09982 Filed 5-14-19; 8:45 am]

BILLING CODE 4910-13-P